DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Collection of State Administrative Records Data.

OMB Control Number: 0607-xxxx.

Form Number(s): Information will be collected in the form of a data transfer to the Census Bureau. No form will be used.

Type of Request: Regular/General.

Number of Respondents: 50 states, plus the District of Columbia.

Average Hours per Response: 75 hours.

Burden Hours: 3,825 hours.

Needs and Uses: The State administrative records will be integrated and linked with Census Bureau data from surveys and censuses and used to augment or replace Census operations, improve the Census Bureau's Title 13, U.S. Code (U.S.C.) authorized censuses and surveys and methods of collecting program participation data, as well as improving record linking methods.

The Census Bureau will return tabulated data to state data sharing partners. Data sharing and analysis of linked files are solely for statistical purposes, not for program enforcement. All State administrative records data are and will remain confidential, whether in their original form or when comingled or linked.

Affected Public: State governments.

Frequency: Initial data extract delivery followed by an annual data extract delivery through the duration of the terms of the agreement.

Respondent's Obligation: None. The data is being requested.

Legal Authority: The authority for the Census Bureau to enter into these agreements is 13 U.S.C. 6, which permits the Census Bureau to access, by purchase or otherwise, information to assist the Census Bureau in the performance of duties under Title 13, United States Code. Other specific citations may apply per the data sharing partner.

This information collection request may be viewed at www.reginfo.gov. Follow the instructions to view Department of Commerce collections currently under review by OMB.

Written comments and recommendations for the proposed information collection should be sent within 30 days of publication of this notice to OIRA_Submission@omb.eop.gov or fax to (202) 395-5806.

Glenna Mickelson,
Management Analyst, Office of the Chief Information Officer.

[FR Doc. 2016-21612 Filed 9-7-16; 8:45 am]

BILLING CODE 3510-07-P